DEPARTMENT OF THE INTERIOR

Bureau of Land Management

[AZA 30749]

Public Land Order No. 7467; Withdrawal of National Forest System Lands for San Francisco Peaks/Mount Elden Recreation Area; Arizona; Correction

Correction

In notice document 00-26435 on page 61181 in the issue of Monday, October 16, 2000, make the following correction:

On page 61181, in the third column, in the 15th line from the top, replace “NE¼SE¼” with “NW¼SE¼”.

Dated: December 6, 2000.
Alvin L. Burch,
Acting Deputy State Director, Resources Division.

[FR Doc. 00-32058 Filed 12-15-00; 8:45 am]

BILLING CODE 3410-11-P